DEPARTMENT OF COMMERCE

Foreign-Trade Zones Board

[B-28-2016]

Foreign-Trade Zone (FTZ) 26—Atlanta, Georgia; Authorization of Production Activity; Eastman Kodak Company; Subzone 26N (Aluminum Printing Plates); Columbus, Georgia

On April 26, 2016, Georgia Foreign Trade Zone, Inc., grantee of FTZ 26, submitted a notification of proposed production activity to the FTZ Board on behalf of Eastman Kodak Company, within Subzone 26N in Columbus, Georgia.

The notification was processed in accordance with the regulations of the FTZ Board (15 CFR part 400), including notice in the Federal Register inviting public comment (81 FR 28051, May 9, 2016). The FTZ Board has determined that no further review of the activity is warranted at this time. The production activity described in the notification is authorized, subject to the FTZ Act and the Board's regulations, including Section 400.14.

Dated: August 24, 2016.
Andrew McGilvray,
Executive Secretary.

[FR Doc. 2016-20841 Filed 8-29-16; 8:45 am]

BILLING CODE 3510-DS-P